DEPARTMENT OF TRANSPORTATION

Research and Special Programs Administration

Office of Hazardous Materials Safety; Notice of Applications for Modification of Exemption

AGENCY: Research and Special Programs Administration, DOT.

ACTION: List of Applications for Modification of Exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before September 4, 2001.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW, Washington, DC or at http://dms.dot.gov.

This notice of receipt of applications for modification of exemptions is published in accordance with Part 107 of the Federal hazardous materials transportation law (49 U.S.C. 5117(b); 49 CFR 1.53(b)).

Issued in Washington, DC, on August 15, 2001.
Suzanne Hedgepeth,
Director, Office of Hazardous Materials, Exemptions and Approvals.

Application No. | Docket No. | Applicant | Modification of exemption
7277-M |  | Structural Composites Industries, Pomona, CA¹ | 7277
8162-M |  | Structural Composites Industries, Pomona, CA² | 8162
8718-M |  | Structural Composites Industries, Pomona, CA³ | 8718
10019-M |  | Structural Composites Industries, Pomona, CA⁴ | 10019
10458-M |  | Marsulex, Inc., North York, Ontario, CA⁵ | 10458
10751-M |  | Dyno Nobel, Inc., Salt Lake City, UT ⁶ | 10751
11194-M |  | Carleton Technologies, Inc., Pressure Tech. Div., Glen Burnie, MD ⁷ | 11194
11379-M |  | TRW Automotive Occupant Safety Systems, Washington, MI ⁸ | 11379
11489-M |  | TRW Automotive, Queen Creek, AZ ⁹ | 11489
11579-M |  | Dyno Nobel, Inc., Salt Lake City, UT ¹⁰ | 11579
12065-M | RSPA-98-3831 | Petrolab Company Latham, NY ¹¹ | 12065
12557-M | RSPA-00-8301 | Global Container Group, Inc. Baton Rouge, LA¹² | 12557
12626-M | RSPA-01-8851 | SMI Companies, Franklin, LA ¹³ | 12626
12771-M | RSPA-01-10156 | Cytec Industries, Inc., West Paterson, NJ ¹⁴ | 12771
¹ To modify the exemption to authorize the retest period from 3 to 5 years for non-DOT specification fiber reinforced plastic full composite cylinders used for the transportation of Division 2.1 and 2.2 materials.
² To modify the exemption to authorize the retest period from 3 to 5 years for non-DOT specification fiber reinforced plastic full composite cylinders used for the transportation of Division 2.2 materials.
³ To modify the exemption to authorize the retest period from 3 to 5 years for non-DOT specification fiber reinforced plastic full composite cylinders used for the transportation of Division 2.2 materials.
⁴ To modify the exemption to authorize the retest period from 3 to 5 years for non-DOT specification fiber reinforced plastic full composite cylinders used for the transportation of Division 2.2 materials.
⁵ To modify the exemption to authorize the use of additional unloading facilities for the transportation of Class 8 and Division 2.3 materials in DOT Specification 111A100W2 tank car tanks.
⁶ To modify the exemption to authorize the transportation of Class 1.4D, 1.4B, 1.1B and additional 1.1D explosives in the same motor vehicle with certain bulk combustible liquids and/or bulk Division 5.1 oxidizers.
⁷ To modify the exemption to authorize the transportation of an additional Division 2.2 material in non-DOT specification full wrapped carbon fiber reinforced aluminum lined cylinders.
⁸ To modify the exemption to authorize the use of the non-DOT specification pressure vessels in non-automotive safety systems.
⁹ To modify the exemption to authorize the use of a contract carrier for transporting certain unapproved or unidentified items as approved, air bag inflators or air bag modules or seat belt pretensioners or seat belt modules as Division 1.4C explosive articles, segregated from other hazardous materials.
¹⁰ To modify the exemption to authorize the transportation of Division 1.1D and 1.4D explosives on the same motor vehicle with Division 1.5D explosives.
¹¹ To modify the exemption to authorize the use of an alternative flash point test method by any person/company without party status exemption approval for the transportation of certain Class 3 materials in limited quantities.
¹² To reissue the exemption originally issued on an emergency basis authorizing the construction of certain DOT Specification 51 steel portable tanks designed in accordance with Section VIII, Division 1 of the ASME Code, except for design margin, for the transportation of certain Division 2.1 and 2.2 materials.
¹³ To modify the exemption to authorize the transportation of additional Class 8 materials in a non-DOT specification steel portable tank equipped with an external bottom discharge valve.
¹⁴ To modify the exemption originally issued on an emergency basis for the transportation of certain Division 2.3 materials in DOT Specification 3AA2400 cylinders not fitted with a pressure relief device and to increase the cylinder pressure to a maximum of 840 psig at 70 degrees F.

[FR Doc. 01-20924 Filed 8-17-01; 8:45 am]

BILLING CODE 4910-60-M